DEPARTMENT OF ENERGY

Office of Energy Efficiency and Renewable Energy

10 CFR Part 430

[Docket Number EE-RM-98-440]

RIN 1904-AA77

Energy Conservation Program for Consumer Products; Central Air Conditioners and Heat Pumps Energy Conservation Standards

Correction

In rule document 01-1790 beginning on page 7170, in the issue of Monday, January 22, 2001, make the following corrections:

1. On page 7187, in table V.11., under the heading “ARI manufacturing costs (in percent), in the third line, “ 0.2” should read “ 10.2”.

2. On page 7190, in table V.18., in the second level heading, “ unites” should read “units”.

3. On the same page, in the same table, under the heading “Reverse engineering costs”, the heading “Rool-up” should read “Roll-up”.

4. On page 7191, in table V.19., in the last column on the right, under the heading “ as percent of base case total”. the following numbers; “0.2, 0.5, and 0.9” should read “−0.2, −0.5, − 0.9”

[FR Doc. C1-1790 Filed 2-23-01; 8:45 am]

BILLING CODE 1505-01-D